FEDERAL COMMUNICATIONS COMMISSION

47 CFR Part 73

[DA No. 01-271, MM Docket No. 01-31, RM-10035]

Radio Broadcasting Services; Huntsville, La Porte, Nacogdoches and Willis, TX and Lake Charles, LA

AGENCY: Federal Communications Commission.

ACTION: Proposed rule.

SUMMARY: This document requests comments on a petition filed on behalf of New Wavo Communication Group, Inc. (“New Wavo”) requesting the substitution of Channel 279C for Channel 279C3 at Willis, Texas, reallotment of Channel 279C from Willis, Texas to La Porte, Texas, and modify the license for Station KVST(FM) accordingly. The coordinates for Channel 279C at La Porte are 29-58-19 and 94-31-16. To accommodate the proposal for La Porte, New Wavo also requests the substitution of Channel 259A for Channel 259C3 at Huntsville, Texas, reallotment of Channel 259A to Willis, Texas, at coordinates 30-32-37 and 95-28-32, and modification of the license for Station KUST accordingly; substitute Channel 277C2 for Channel 279C1 at Lake Charles, Louisiana, at coordinates 30-12-12 and 93-26-19 and modifiy the license for Station KBIU accordingly; and substitute Channel 277C2 for Channel 277C1 at Nacogdoches, Texas, at coordinates 31-25-59 and 94-49-03 and modify the license for Station KJCS accordingly. In accordance with Section 1.420(i) of the Commission's Rules, we shall not accept competing expressions of interest in the use of Channel 279C at La Porte, Texas.

DATES: Comments must be filed on or before March 26, 2001, and reply comments on or before April 10, 2001.

ADDRESSES: Federal Communications Commission, Washington, DC 20554. In addition to filing comments with the FCC, interested parties should serve the New Wavo's counsel, as follows: Frank R. Jazzo, Fletcher Heald & Hildreth, PLC, 1300 North 17th Street, 11th Floor, Arlington, Virginia 22209-3801 and Mark N. Lipp, J. Thompas Nolan, Shook Hardy & Bacon LLP, 600 14th Street, NW, suite 800, Washington, DC 20005.

FOR FURTHER INFORMATION CONTACT: Kathleen Scheuerle, Mass Media Bureau, (202) 418-2180.

SUPPLEMENTARY INFORMATION: This is a summary of the Commission's Notice of Proposed Rule Making, MM Docket No. 01-31, adopted January 24, 2001, and released February 2, 2001. The full text of this Commission decision is available for inspection and copying during normal business hours in the Commission's Reference Center, Washington, DC. The complete text of this decision may also be purchased from the Commission's copy contractors, International Transcription Services, Inc., 1231 20th Street, NW., Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Texas, is amended by removing Channel 279C3 at Willis, removing Channel 259C3 at Huntsville, adding Channel 259A at Willis, removing Channel 277C1 and adding Channel 277C2 at Nacogdoches and by adding La Porte, Channel 279C.

3. Section 73.202(b), the Table of FM Allotments under Louisiana, is amended by removing Channel 279C1 and adding Channel 277C2 at Lake Charles.

Federal Communications Commission.
John A. Karousos,
Chief, Allocations Branch, Policy and Rules Division, Mass Media Bureau.

[FR Doc. 01-3963 Filed 2-15-01; 8:45 am]

BILLING CODE 6712-01-P